DEPARTMENT OF DEFENSE

Office of the Secretary

Establishment of the U.S. European Command Senior Advisory Group

AGENCY: Department of Defense.

ACTION: Notice of establishment.

SUMMARY: The U.S. European Command Senior Advisory Group (SAG) is being established in consonance with the public interest and in accordance with the provisions of Pub. L. 92-463, the “Federal Advisory Committee Act,” title 5 U.S.C., appendix 2. The SAG will provide the Commander, U.S. European Command with advice, guidance, and assistance toward fulfilling its mission.

The SAG will be composed of a broad spectrum of nationally renowned civilian and military members able to give diverse and divergent points of view. The committee will be balanced among military and civilian national security experts, academicians, civilian leaders in public service, and others who will afford this command multiple views on issues affecting strategic planning.

FOR FURTHER INFORMATION CONTACT: COL Timothy C. Touzinsky, USA, at (703) 693-4850.

Dated: April 14, 2003.
Patricia Toppings,
Alternate OSD Federal Register Liaison Officer, Department of Defense.

[FR Doc. 03-9580 Filed 4-17-03; 8:45 am]

BILLING CODE 5001-08-M